DEPARTMENT OF THE INTERIOR

National Park Service

[NPS-WASO-APPFL-19524; PPWODESCP1, PMP00SLY05.YP0000]

Manhattan Project National Historical Park

AGENCY: National Park Service, Interior.

ACTION: Notice of Execution of Agreement and Establishment of Park.

SUMMARY: The National Park Service (NPS) announces that the Secretary of the Interior and the Secretary of Energy have entered into an agreement governing the administration of facilities, land, or interests in land under the jurisdiction of the Department of Energy (DOE) that are to be initially included in the Manhattan Project National Historical Park (Park) and setting out the specific responsibilities of each of the Secretaries with regard to the Park. This agreement satisfies the legal requirements to establish the Park. This new unit of the National Park System is located in Oak Ridge, Tennessee; Hanford, Washington; and Los Alamos, New Mexico.

DATES: The agreement governing the management of Park was signed by the Secretary of the Interior and the Secretary of Energy on November 10, 2015. The law directing the establishment of the Park requires that notice of the establishment of the Park be published in the Federal Register not later than 30 days after the date on which the agreement is executed.

ADDRESSES: The Memorandum of Agreement between the Department of the Interior and the Department of Energy and the associated boundary map are available for public review on the NPS's Planning, Environment and Public Comment Web site at: http://parkplanning.nps.gov/MPNHP. A copy of the boundary map is available on the Web site at: http://parkplanning.nps.gov/document.cfm?parkID=482&projectID=57561&documentID=69146.

FOR FURTHER INFORMATION CONTACT: Victor Knox, Associate Director, Park Planning, Facilities, and Lands by phone at 202-208-3264.

SUPPLEMENTARY INFORMATION: Section 3039 of the Carl Levin and Howard P. “Buck” McKeon National Defense Authorization Act for Fiscal Year 2015 (Pub. L. 113-291) includes specific provisions relating to the establishment of this unit of the National Park System as follows:

a. Section 3039(d) of Public Law 113-291 requires the Secretary of the Interior and the Secretary of Energy, not later than one year after the date of enactment of the act (December 19, 2014), to enter into an agreement governing the administration of facilities, land, or interests in land under the DOE's jurisdiction that are to be included in the Park and setting out the specific responsibilities of each of the Secretaries with regard to the Park.

b. Section 3039(e)(2) of Public Law 113-291 also requires the Secretary of the Interior to publish in the Federal Register notice of the establishment of the Park, including a boundary map, not later than 30 days after the agreement is executed.

Beginning in February 2015 representatives of the Secretary of the Interior and the Secretary of Energy met to discuss a framework for managing the Park and to determine which of the eligible areas identified in the authorizing legislation would be initially included in the Park. Over the course of several months the agency representatives visited all three DOE locations, toured the eligible areas, and met with interested members of the public in each location. As a result of those discussions, tours, and meetings, the Secretaries determined that the areas shown on the map published with this notice would be initially included in the Park. On July 28, 2015, the draft agreement and a proposed boundary map were posted on the NPS's public park-planning Web site, and members of the public were allowed 30 days to comment on them. The agency representatives then analyzed those comments and modified the draft agreement and the boundary map accordingly. Although the NPS and DOE recognize the historical significance of the other eligible areas identified in the authorizing legislation, those facilities either are not currently safe for visitation or are needed to support ongoing DOE mission work. They are therefore not included in the Park at this time; however, the agencies will periodically reevaluate them to determine if they can be included in the Park at a later date.

The Secretary of the Interior has determined that the execution of the agreement satisfies the legal requirements to establish this new unit of the National Park System. Accordingly, effective on the date of publication of this notice, the Park is established as a new unit of the National Park System and is subject to the laws and policies governing such units.

Authority: Section 3039 of the Carl Levin and Howard P. “Buck” McKeon National Defense Authorization Act for Fiscal Year 2015, Public Law 113-291.

Dated: December 4, 2015.
Peggy O'Dell,
Deputy Director, Operations.

[FR Doc. 2015-31330 Filed 12-11-15; 8:45 am]

BILLING CODE 4312-52-P